DEPARTMENT OF THE INTERIOR

Bureau of Land Management

[22X LLUTW02100 L51010000 ER0000 LVRWJ22J5140; UTU-92201]

Notice of Intent To Prepare an Environmental Impact Statement for the Proposed Cross-Tie 500-kV Transmission Project, Beaver, Juab, and Millard Counties, Utah, and White Pine County, Nevada

AGENCY: Bureau of Land Management, Interior.

ACTION: Notice of intent.

SUMMARY: The Bureau of Land Management (BLM) Fillmore Field Office intends to prepare an Environmental Impact Statement (EIS) to analyze and disclose impacts associated with the proposed Cross-Tie 500-kV Transmission Project (Project). The BLM Fillmore Field Office is leading the National Environmental Policy Act (NEPA) process in partnership with the BLM Utah Cedar City Field Office, the BLM Nevada Bristlecone Field Office, and the U.S. Department of Agriculture Forest Service (USDA Forest Service) Humboldt-Toiyabe National Forest, Ely Ranger District. The Project proposed by TransCanyon, LLC (TransCanyon) includes a 214-mile, single-circuit, 1,500-megawatt, 500-kilovolt (kV), high-voltage alternating current (HVAC) overhead transmission line that would be located on BLM-managed public land, USDA Forest Service National Forest System Land, state land, and private land in Beaver, Juab, and Millard Counties, Utah; and White Pine County, Nevada. This notice initiates the public scoping process, which begins a 30-day public comment period. The purpose of public scoping is to determine relevant issues that will influence the scope of the environmental analysis, including potential alternatives to the proposed Project, and guide the process for developing the EIS.

DATES: The BLM requests comments concerning the scope of the analysis and identification of relevant information, studies, and analyses. All comments must be received by May 31, 2022.

ADDRESSES: Send written comments by mail to: ATTN: Cross-Tie Project, BLM Fillmore Field Office, 95 East 500 North, Fillmore, Utah 84631. Comments may also be sent via email to: blm_ut_fm_cross-tie_project@blm.gov.

FOR FURTHER INFORMATION CONTACT: For further information and, or to have your name added to our mailing list, contact Project Manager Clara Stevens, telephone 435-743-3119; email blm_ut_fm_cross-tie_project@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The applicant, TransCanyon, submitted an Application for Transportation and Utility Systems and Facilities on Federal Lands (Standard Form 299) and a draft Plan of Development to the BLM and USDA Forest Service for a permanent facility right-of-way (ROW) and a special use permit (SUP) for the construction, operation, maintenance, and decommissioning of the transmission line. TransCanyon and its affiliates own and operate approximately 36,000 miles of transmission projects and propose this Project to facilitate access between renewable sources of energy. These resources are primarily wind in Wyoming and wind or solar resources in central Utah and eastern Nevada.

The BLM will use the NEPA public participation process to satisfy the public involvement requirements under Section 106 of the National Historic Preservation Act (NHPA) (16 U.S.C 470(f)) pursuant to 36 C F R 800.2(d)(3). The information about historic and cultural resources within the area potentially affected by the Project will assist the BLM in identifying and evaluating impacts to such resources in the context of both NEPA and Section 106 of the NHPA.

The BLM will consult with American Indian Tribes on a government-to-government basis in accordance with Executive Order 13175 and other policies. Tribal concerns will be given due consideration, including impacts on American Indian trust assets and potential impacts to cultural resources.

The BLM Fillmore Field Office, in coordination with cooperating agencies, intends to prepare the EIS to analyze potential impacts from the proposed Project and alternatives. New permanent and temporary land authorizations would be required to construct, operate, and maintain Project components. The proposed route would cross a total of 137 miles in Utah and 77 miles in Nevada. Approximately 165 miles, or 77 percent, of the proposed route would be on BLM-managed public land, approximately 9 miles (4 percent) on National Forest System Land, approximately 11 miles (5 percent) on state land, and the remaining approximately 29 miles (14 percent) on privately owned land. TransCanyon would obtain these land rights through ROW grants from the BLM, a SUP from the USDA Forest Service, and easements or fee purchases for non-Federal lands.

Purpose and Need for the Proposed Action

The purpose is to respond to TransCanyon's application for a ROW and SUP. The need is derived from the BLM's and the USDA Forest Service's regulatory responsibilities to respond to the application in accordance with Federal regulations and policies including the Federal Land Policy and Management Act.

Preliminary Proposed Action and Alternatives

The Project includes a 214-mile, single-circuit, 1,500-megawatt, 500-kV, HVAC overhead transmission line. The Project would be situated within a 250-foot-wide ROW/SUP, 125 feet from centerline, which would maintain separation from other existing extra-high-voltage transmission lines, as required by the North American Electric Reliability Corporation. The Project facilities would include a 500-kV HVAC overhead transmission line, new substation equipment at the Clover Substation in central Utah (within the existing substation footprint) and at the Robinson Summit Substation in East-central Nevada (within a 46-acre proposed expansion), regeneration stations near the line for the fiber optical ground wire, temporary and permanent access roads, and temporary work areas associated with construction activities. The transmission line would be a single-circuit configuration supported typically by four types of transmission structures: (1) Steel lattice guyed-V tangent structures would be the predominant type used; (2) single-circuit self-supporting steel lattice dead-end structures would be used specifically at angle and turning points; (3) single-circuit self-supporting steel lattice tangent structures would be sited where guyed-V structures are not allowed or are not technically feasible; and (4) reduced-height tubular steel H-frame would be used in specific instances requiring shorter structures. The 500-kV single-circuit structures would consist of three phases with a conductor bundle (i.e., three subconductors) per phase installed in a triangular configuration. Shield wires would be grounded at every structure, and insulated hardware and conductors would be used.

In addition to the Proposed Action and No Action Alternative (i.e., not granting the ROW/SUP), preliminary alternatives include modifications to the proposed route. Preliminary alternative routes were developed during workshops with agency interdisciplinary teams and cooperating agencies to reduce impacts on resources of concern. The preliminary alternative routes for the Project meet the criteria established in Section 6.6.3 of the BLM NEPA Handbook to be carried forward for detailed analysis. Three preliminary alternative routes may be considered for detailed analysis.

The first preliminary alternative route occurs at the east end of the proposed route in Juab County. This route would deviate from the proposed route, pass through a Greater sage-grouse general habitat management area, and then follow the route of the approved TransWest Express project until it rejoins the proposed route at the Juab-Millard County line. This alternative would minimize crossing of private land and relocate the Project away from more populated areas, the Sevier River, and agricultural property. The portion of the proposed route that this alternative route would replace is 23 miles long; this alternative route would be approximately 27 miles long, adding approximately 4 miles to the 214-mile proposed route for a 2 percent increase to the total length.

The second preliminary alternative route deviates from the proposed route in north-central Millard County and travels south into Beaver County and then back to the proposed route at the Utah-Nevada border. This alternative route follows BLM utility corridors and Section 368 corridors. It also reduces impacts from crossing the Utah Test and Training Range (UTTR) military operating areas (MOAs) that have tower height restrictions and lighting requirements and avoids Marjum Pass, which has a 1,500-foot-wide corridor between two Wilderness Study Areas. The portion of the proposed route that this alternative route would replace is 69 miles long; this alternative route would be approximately 158 miles long, adding approximately 89 miles to the 214-mile proposed route for a 41 percent increase to the total length.

The third preliminary alternative route would occur just west of the Utah-Nevada border in western White Pine County to avoid the culturally sensitive Swamp Cedars Area of Critical Environmental Concern and the Bahsahwahbee Traditional Cultural Property. The portion of the proposed route that this alternative route would replace is 7 miles long; this alternative route would be approximately 13 miles long, adding approximately 6 miles to the 214-mile proposed route for a 3 percent increase to the total length.

Additional alternatives to be analyzed in detail in the EIS may be identified after the scoping process is completed.

Summary of Expected Impacts

The Project is anticipated to cause direct and indirect impacts during construction, operations and maintenance, and decommissioning. During construction, impacts would occur from land disturbance; operation of construction equipment; installation of towers, access roads, and other facilities; and presence of work forces. During operations and maintenance, impacts would occur from continued presence of Project facilities and from maintenance activities. Impacts from decommissioning would be similar to those expected from the construction phase. Cumulative impacts from relevant reasonably foreseeable future actions will also be disclosed in the environmental impact statement.

The BLM has preliminarily identified the following resources for which issues may need to be analyzed: Effects of a transmission line to traditional cultural properties and areas of Native American cultural importance; effects of construction and operation to USDA Forest Service Inventoried Roadless Areas and BLM Wilderness Study Areas; effects to dark night skies; visual effects of a transmission line to cultural sites, recreational users, and private landowners; effects to the UTTR MOAs; effects of construction and operation to wildlife and wildlife habitat (including Greater sage-grouse); and effects of the construction workforce to the level of services available in the affected communities.

Anticipated Permits and Authorizations

The BLM anticipates that the following permits and approvals will be required for the Project:

• BLM ROW and USDA Forest Service SUP.

• State easements for Project use of state land.

• Private land authorizations for construction and operation of the Project.

• U.S. Fish and Wildlife Service Endangered Species Act compliance.

• U.S. Army Corps of Engineers Clean Water Act Section 404 Nationwide Permit.

• Required permits to complete biological resources, cultural resources, or engineering surveys on public and state lands or ROW entry for privately owned land. Compliance with the Nevada Sagebrush Ecosystem Program's Conservation Credit System for Greater sage-grouse.

Schedule for the Decision-Making Process

The BLM anticipates a draft environmental impact statement in Spring 2023, the final environmental impact statement in Winter 2023, and a record of decision in Spring 2024.

Public Scoping Process

This Notice of Intent initiates the scoping process, which guides the development of the environmental impact statement. The BLM is seeking comments from interested and affected parties that provide specific and relevant information that inform the issues or alternatives to be analyzed, or that could influence the scope of issues or range of alternatives considered. Comments may be submitted in writing for 30 calendar days following the publication of this notice.

The BLM will conduct two virtual public scoping meetings; the public can register for those meetings at https://go.usa.gov/xzvQm. The date(s) and time(s) of these virtual scoping meetings will be announced at least 10 days in advance through a news release, social media, and the BLM's ePlanning website at https://go.usa.gov/xzvQm. In-person office hours are being offered during the scoping period by prescheduled appointment at the following offices: BLM Fillmore Field Office at 95 East 500 North, Fillmore, UT 84631; and Humboldt-Toiyabe National Forest's Ely Ranger District at 825 Avenue E, Ely, NV 89301. Appointments can be made by contacting Project Manager Clara Stevens, by telephone at 435-743-3119. Public scoping presentation materials will be available upon request.

For public comments on the scope of the analysis to be considered in the draft environmental impact statement, comments must be received prior to the close of the 30-day scoping period. Additional opportunities for public participation will be provided upon publication of the draft environmental impact statement.

Before including an address, phone number, email address, or other personally identifiable information in any comments, be aware that the entire comment—including personal identifying information—may be made publicly available at any time. Requests to withhold personal identifying information from public review can be submitted, but the BLM cannot guarantee that it will be able to do so.

Request for Identification of Potential Alternatives, Information, and Analyses Relevant to the Proposed Action

The BLM requests assistance with identifying potential alternatives to the Proposed Action for consideration. As alternatives should resolve a problem with the Proposed Action, please indicate the purpose of the suggested alternative. The BLM also requests assistance with identifying potential impacts that should be analyzed. Impacts should be a result of the action; therefore, please identify the activity and the potential impact that should be analyzed. Information that reviewers have that would assist in the development of alternatives or analysis of resources issues is also helpful.

It is important that reviewers provide their comments at such times and in such manner that they are useful to the agency's preparation of the environmental impact statement. Therefore, comments should be provided prior to the close of the comment period and should clearly articulate the reviewer's concerns.

Comments received in response to this solicitation, including the names and addresses of those who comment, will be part of the public record for this Project.

Lead and Cooperating Agencies

The BLM Utah Fillmore Field Office is leading the NEPA process in partnership with the BLM Utah Cedar City Field Office, the BLM Nevada Bristlecone Field Office, and the Humboldt-Toiyabe National Forest's Ely Ranger District.

Cooperating agencies include:

• USDA Forest Service

• U.S. Environmental Protection Agency

• U.S. Fish and Wildlife Service

• U.S. Department of Defense, Utah Test and Training Range

• Duckwater Shoshone Tribe

• Te-Moak Tribe of Western Shoshone—Elko Band

• Utah:

○ Beaver County

○ Juab County

○ Millard County

○ State of Utah, Public Lands Policy Coordinating Office:

Utah Division of Wildlife Resources

Utah Department of Agriculture and Food

School and Institutional Trust Lands Administration

Utah Department of Transportation

University of Utah Telescope Array Project

• Nevada:

○ City of Ely

○ White Pine County

○ Nevada Department of Wildlife

○ Nevada Division of Minerals

○ Nevada Division of State Lands

○ Nevada Sagebrush Ecosystem Program

Nature of Decision To Be Made

The Federal decision is whether or not to issue a right-of-way grant (BLM) and special-use permit application (USDA Forest Service) for the Project and, if issued, under what conditions. The Bureau considers alternatives and analyzes potential impacts in issuing its final decision.

Anita Bilbao,
BLM Utah Associate State Director.

[FR Doc. 2022-09397 Filed 4-29-22; 8:45 am]

BILLING CODE 4310-HC-P